DEPARTMENT OF HEALTH AND HUMAN SERVICES

Centers for Disease Control and Prevention

[30-Day-14-13AHA]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, D.C. 20503 or by fax to (202) 395-5806. Written comments should be received within 30 days of this notice.

Proposed Project

World Trade Center Health Program Enrollment & Appeals—Pentagon & Shanksville, Pennsylvania Responders—New—National Institute for Occupational Safety and Health (NIOSH), Centers for Disease Control and Prevention (CDC).

Background and Brief Description

The James Zadroga 9/11 Health and Compensation Act of 2010 (Zadroga Act), promulgated on December 22, 2010, established a Federal program to support health monitoring and treatment for emergency responders; recovery and cleanup workers; and residents, building occupants, and area workers in New York City who were directly impacted and adversely affected by the terrorist attacks of September 11, 2001. Section 3311(a)(2)(C) of the PHS Act authorizes the WTC Program Administrator (Administrator) to develop eligibility criteria for enrollment of Shanksville, Pennsylvania and Pentagon responders. Pentagon and Shanksville responders who believe they may be eligible for enrollment in the Program must complete an enrollment form. The following information includes the definition of each population:

• A Pentagon responder is someone who was a member of a fire or police department (whether fire or emergency personnel, active or retired), worked for a recovery or cleanup contractor, or was a volunteer; and performed rescue, recovery, demolition, debris cleanup, or other related services at the Pentagon site of the terrorist-related aircraft crash of September 11, 2001, during the period beginning on September 11, 2001, and ending on November 19, 2001.

• A Shanksville responder is someone who was a member of a fire or police department (whether fire or emergency personnel, active or retired), worked for a recovery or cleanup contractor, or was a volunteer; and performed rescue, recovery, demolition, debris cleanup, or other related services at the Shanksville, Pennsylvania site of the terrorist-related aircraft crash of September 11, 2001, during the period beginning on September 11, 2001, and ending on October 3, 2001.

This information is being collected in order to determine the eligibility of Pentagon and Shanksville, Pennsylvania responders as well as to provide program participants with the opportunity to appeal. This includes individuals' names, mailing address, telephone number, date of birth, and gender.

The World Trade Center Health Program (WTCHP) expects to receive approximately 1,605 applications in the first year. The application is expected to take 30 minutes to complete. Of the 1,605 applications it is expected that that 10 percent of those individuals found ineligible (4 respondents) will appeal the decision. We also expect that program participants will request certification for 874 health conditions each year. Of those 874, it is expected that 1 percent (<1) will be denied certification by the WTC Program Administrator. We further expect that such a denial will be appealed 95 percent of the time.

Of the projected 454 enrollees who will receive medical care, it is estimated that 3 percent (14) will appeal a determination by the WTC Health Program that the treatment being sought is not medically necessary. We estimate that the appeals letter will take no more than 30 minutes to complete.

Pharmacies will electronically transmit reimbursement claims to the WTCHP. HHS estimates that 4 pharmacies will submit reimbursement claims for 1,058 prescriptions per year, or 265 per pharmacy; we estimate that each submission will take 1 minute.

WTC responders who travel more than 250 miles to a nationwide network provider for medically necessary treatment may be provided necessary and reasonable transportation and other expenses. These individuals may submit a travel refund request form, which should take respondents 10 minutes to complete.

There is no cost to respondents other than their time. The total estimated burden is 831 hours.

Estimated Annualized Burden Hours
Type of respondent | Form name | Number of respondents | Number of responses per respondent | Average burden per response (in hours)
Pentagon or Shanksville, Pennsylvania Responder | World Trade Center Health Program Pentagon & Shanksville, Pennsylvania Responder Eligibility Application | 1,605 | 1 | 30/60
Pentagon or Shanksville, Pennsylvania Responder | Appeals to Eligibility Denial | 4 | 1 | 30/60
Pentagon or Shanksville, Pennsylvania Responder | Appeals regarding certification of health conditions | 1 | 1 | 30/60
Pentagon or Shanksville, Pennsylvania Responder | Appeals regarding treatment | 14 | 1 | 30/60
Pharmacies | Outpatient prescription pharmaceuticals | 4 | 265 | 1/60
Pentagon or Shanksville, Pennsylvania Responder | WTC Health Program Medical Travel Refund Request | 1 | 1 | 10/60

Kimberly S. Lane,
Deputy Director, Office of Scientific Integrity, Office of the Associate Director for Science, Office of the Director, Centers for Disease Control and Prevention.

[FR Doc. 2013-26786 Filed 11-7-13; 8:45 am]

BILLING CODE 4163-18-P